NUCLEAR REGULATORY COMMISSION

[NRC-2026-0265]

SMR, LLC; Pioneer Units 1 and 2; Phased Construction Permit Application—Limited Work Authorization

AGENCY: Nuclear Regulatory Commission.

ACTION: Notice; receipt.

SUMMARY: The U.S. Nuclear Regulatory Commission (NRC) has received the first part of a phased construction permit application, including a limited work authorization (LWA) request, from SMR, LLC (SMR), a Holtec International Company, for a dual-unit SMR-300 plant located at the Palisades Energy Center (PEC) in Covert, Michigan. The units are individually named Pioneer Unit 1 and Pioneer Unit 2.

DATES: January 22, 2026.

ADDRESSES: Please refer to Docket ID NRC-2026-0265 when contacting the NRC about the availability of information regarding this document. You may obtain publicly available information related to this document using any of the following methods:

• Federal Rulemaking Website: Go to https://www.regulations.gov and search for Docket ID NRC-2026-0265. Address questions about Docket IDs in Regulations.gov to Bridget Curran; telephone: 301-415-1003; email: Bridget.Curran@nrc.gov. For technical questions, contact the individual(s) listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The Pioneer Units 1 and 2 LWA application is available in ADAMS under Package Accession No. ML25365A983.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Victoria Huckabay, Office of Nuclear Reactor Regulation, U.S. Nuclear Regulatory Commission, Washington, DC 20555-0001; telephone: 301-415-5183; email: Victoria.Huckabay@nrc.gov.

SUPPLEMENTARY INFORMATION:

I. Discussion

On December 31, 2025, SMR, on behalf of Palisades SMR, LLC, filed with the NRC, the first part (Part 1) of a phased construction permit application for a utilization facility pursuant to Section 103 of the Atomic Energy Act and part 50 of title 10 of the Code of Federal Regulations (10 CFR), “Domestic Licensing of Production and Utilization Facilities.” Part 1 of the application includes a LWA request pursuant to 10 CFR 50.10(d), “Request for limited work authorization;” three exemption requests; and a comprehensive environmental report (ER). SMR's LWA application requests NRC approval to conduct certain early construction activities of a dual-unit SMR-300 plant at the PEC in Covert, Michigan. The comprehensive ER addresses the environmental impacts associated with LWA activities (including the requested exemptions), the remainder of construction to complete the plant, and plant operations. The applicant submitted Part 1 of its application as part of a phased application approach for a construction permit for a utilization facility, as described in 10 CFR 2.101(a)(9) and 10 CFR 2.600(d). The units are individually named Pioneer Unit 1 and Pioneer Unit 2. SMR plans to submit part two of the phased construction permit application no later than 18 months after this Part 1 submittal.

II. Further Information

If the NRC staff finds Part 1 of the phased construction permit application acceptable for docketing, the staff will begin a detailed technical review of this portion of the application. Subsequent Federal Register notices will address the acceptability of the tendered application for docketing and opportunities for participation of the public during the course of the staff's review.

A copy of the application is available for public inspection at https://www.nrc.gov/reactors/new-reactors/advanced/who-were-working-with/pre-application-activities/holtec/smr300.

Dated: January 16, 2026.
For the Nuclear Regulatory Commission.
Michelle Hayes,
Chief, Licensing and Regulatory Infrastructure Branch, Division of New and Renewed Licenses, Office of Nuclear Reactor Regulation.

[FR Doc. 2026-01143 Filed 1-21-26; 8:45 am]

BILLING CODE 7590-01-P